DEPARTMENT OF COMMERCE

International Trade Administration

[A-570-053]

Certain Aluminum Foil From People's Republic of China: Final Results of Antidumping Duty Administrative Review, Final Determination of No Shipments, and Rescission of Review, in Part; 2022-2023

AGENCY: Enforcement and Compliance, International Trade Administration, Department of Commerce.

SUMMARY: The U.S. Department of Commerce (Commerce) determines that certain producers and/or exporters made sales of certain aluminum foil (aluminum foil) at less than normal value during the period of review (POR), April 1, 2022, through March 31, 2023. Additionally, Commerce is rescinding this administrative review with respect to one company.

DATES: Applicable November 12, 2024.

FOR FURTHER INFORMATION CONTACT: Michael J. Heaney, AD/CVD Operations, Office VI, Enforcement and Compliance, International Trade Administration, U.S. Department of Commerce, 1401 Constitution Avenue NW, Washington, DC 20230; telephone: (202) 482-4475.

SUPPLEMENTARY INFORMATION:

Background

On May 2, 2024, Commerce published the Preliminary Results and invited interested parties to comment.¹ On July 22, 2024, Commerce tolled certain deadlines in this administrative proceeding by seven days.² On August 9, 2024, we extended the deadline for these final results until November 5, 2024.³ For a full summary of the events that occurred since the Preliminary Results, see the Issues and Decision Memorandum.⁴ Commerce conducted this review in accordance with section 751(a) of the Tariff Act of 1930, as amended (the Act).

¹ See Certain Aluminum Foil from People's Republic of China: Preliminary Results of Antidumping Duty Administrative Review, Partial Rescission of Antidumping Duty Administrative Review, and Preliminary Determination of No Shipments; 2022-2023, 89 FR 35801 (May 2, 2024) (Preliminary Results), and accompanying Preliminary Decision Memorandum (PDM).

² See Memorandum, “Tolling of Deadlines for Antidumping and Countervailing Duty Proceedings,” dated July 22, 2024.

³ See Memorandum, “Extension of Time Limit for Final Results of Antidumping Duty Administrative Review, 2022-2023,” dated August 9, 2024.

⁴ See Memorandum, “Issues and Decision Memorandum for the Final Results of the Antidumping Duty Administrative Review of Certain Aluminum Foil from the People's Republic of China; 2022-2023,” dated concurrently with, and hereby adopted by, this notice (Issues and Decision Memorandum).

Scope of the Order ⁵

⁵ See Certain Aluminum Foil from the People's Republic of China: Amended Final Determination of Sales at Less Than Fair Value and Antidumping Duty Order, 83 FR 17362 (April 19, 2018) (Order).

The merchandise covered by the Order is aluminum foil from China. For a complete description of the scope, see the Issues and Decision Memorandum.

Analysis of Comments Received

All issues raised in the case and rebuttal briefs are addressed in the Issues and Decision Memorandum and are listed in Appendix I. The Issues and Decision Memorandum is a public document and is on file electronically via Enforcement and Compliance's Antidumping and Countervailing Duty Centralized Electronic Service System (ACCESS). ACCESS is available to registered users at https://access.trade.gov. In addition, a complete version of the Issues and Decision Memorandum can be found at https://access.trade.gov/public/FRNoticesListLayout.aspx.

Rescission of Review, in Part

In the Preliminary Results, Commerce preliminarily determined that SK Global America, Inc. (SK Global) was not eligible for a separate rate because it was not a producer or exporter of subject merchandise.⁶ However, because SK Global is located in the United States,⁷ we find that an administrative review should not have been initiated for SK Global. Accordingly, we are rescinding this review with respect to SK Global.⁸

⁶ See Preliminary Results PDM at 12.

⁷ See SK Global America, Inc.'s Letter, “Separate Rate Application,” dated July 31, 2023.

⁸ See Issues and Decision Memorandum at Comment 11.

Changes From the Preliminary Results

Based on our analysis of the comments received from interested parties, we made certain changes to the margin calculations for: (1) Dingsheng Aluminium Industries (Hong Kong) Trading Co., Limited (Dingsheng Aluminium Industries (Hong Kong) Trading Co., Ltd.); Hangzhou Dingsheng Import & Export Co., Ltd. (Hangzhou Dingsheng Import and Export Co., Ltd.); Hangzhou Five Star Aluminium Co., Ltd.; Hangzhou Teemful Aluminium Co., Ltd.; Inner Mongolia Liansheng New Energy Material Co., Ltd.; and Inner Mongolia Xinxing New Energy Material Co., Ltd. (collectively, Dingsheng); and (2) Jiangsu Zhongji Lamination Materials Co., (HK) Limited, Jiangsu Zhongji Lamination Materials Stock Co., Ltd., Jiangsu Huafeng Aluminium Industry Co., Ltd., Jiangsu Zhongji Lamination Materials Co., Ltd. (collectively Zhongji).⁹ Additionally, we made changes to the separate rate eligibility determination for Lotte Aluminium Co., Ltd. (Lotte).¹⁰ For a discussion of these changes, see the Issues and Decision Memorandum.

⁹ See Memorandum, “Dingsheng Final Results Analysis Memorandum,” dated concurrently with this memorandum.

¹⁰ In the Preliminary Results, we stated that we were rescinding the administrative review with respect to Lotte because all requests for review had been withdrawn. See Preliminary Results, 89 FR at 35802. However, all requests for review of Lotte were not withdrawn; therefore, Lotte is still under review, and we have considered its separate rate eligibility for these final results.

Final Determination of No Shipments

In the Preliminary Results, we preliminarily determined that Anhui Zhongji Battery Foil Science & Technology Co., Ltd. (Anhui Zhongji), Anhui Maximum Aluminum Industries Company Ltd. (Anhui Maximum), Manakin Industries, LLC (Manakin), and Xiamen Xiashun Aluminium Foil Co., Ltd. (Xiashun) did not have any shipments of subject merchandise to the United States during the POR. We received no information to contradict this determination. Therefore, we continue to find that Anhui Zhongji, Anhui Maximum, Manakin, and Xiashun had no shipments of subject merchandise during the POR and will issue appropriate liquidation instructions that are consistent with our “automatic assessment” clarification for these final results.

Separate Rates

In the Preliminary Results, we determined that the following companies demonstrated their eligibility for a separate rate: (1) Dingsheng; (2) Zhongji; (3) Dong-IL Aluminium Co., Ltd. (Dong-IL); (4) Dongwon Systems Corp. (Dongwon); (5) Eastern Valley Co., Ltd. (Eastern Valley); (6) Granges Aluminum (Shanghai) Co., Ltd. (Granges Aluminum); (7) Shanghai Shenyan Packaging Materials Co., Ltd. (Shanghai Shenyan); (8) Suzhou Manakin Aluminum Processing Technology Co., Ltd. (Suzhou Manakin Aluminum); and (9) Suzhou Manakin Trading Co., Ltd. (Suzhou Manakin Trading).¹¹ For these final results, we continue to determine that the companies listed above are eligible for a separate rate, and that 15 companies ¹² are ineligible for a separate rate. Additionally, for these final results, we also find that Lotte is eligible for a separate rate.¹³

¹¹ See Preliminary Results PDM at the “Separate Rate Determinations” section for more details.

¹² See Appendix II of this notice for a complete listing of these companies.

¹³ See Issues and Decision Memorandum at Comment 10.

The China-Wide Entity

In accordance with Commerce's policy, the China-wide entity will not be under review unless a party specifically requests, or Commerce self-initiates, a review of the China-wide entity.¹⁴ Because no party requested a review of the China-wide entity, and Commerce did not self-initiate a review of the entity, the China-wide entity is not under review, and the weighted-average dumping margin for the China-wide entity (i.e., 105.80 percent) is not subject to change.¹⁵ Because 15 companies did not demonstrate their eligibility for a separate rate, we continue to determine the 15 companies to be part of the China-wide entity, and they will be subject to the China-wide entity rate.¹⁶ For a listing of these companies, see Appendix II of this notice.

¹⁴ See Antidumping Proceedings: Announcement of Change in Department Practice for Respondent Selection in Antidumping Duty Proceedings and Conditional Review of the Nonmarket Economy Entity in NME Antidumping Duty Proceedings, 78 FR 65963, 65969-70 (November 4, 2013).

¹⁵ See Order, 84 FR at 2814.

¹⁶ See Initiation of Antidumping and Countervailing Duty Administrative Reviews, 88 FR 38021 (June 12, 2023); see also Initiation of Antidumping and Countervailing Duty Administrative Reviews, 88 FR 51271 (August 3, 2023) (which included a previously omitted company, “Manakin Industries, LLC,” as a respondent in this administrative review), stating “All firms listed below that wish to qualify for separate rate status in the administrative reviews involving NME countries must complete, as appropriate, either a separate rate application or certification, as described below.”

Final Results of Administrative Review

We determine that the following estimated weighted-average dumping margins exist for the period April 1, 2022, through March 31, 2023: ¹⁷

¹⁷ Commerce calculated the rate for non-reviewed respondents using a weighted average of the estimated weighted-average dumping margins calculated for the examined respondents using each company's publicly ranged values for the merchandise under consideration. With two respondents under examination, Commerce normally calculates: (A) a weighted-average of the estimated weighted-average dumping margins calculated for the examined respondents; (B) a simple average of the estimated weighted-average dumping margins calculated for the examined respondents; and (C) a weighted-average of the estimated weighted-average dumping margins calculated for the examined respondents using each company's publicly ranged U.S. sales values for the merchandise under consideration. Commerce then compares (B) and (C) to (A) and selects the rate closest to (A) as the most appropriate rate for all other producers and exporters. See, e.g., Ball Bearings and Parts Thereof from France, Germany, Italy, Japan, and the United Kingdom: Final Results of Antidumping Duty Administrative Reviews, Final Results of Changed-Circumstances Review, and Revocation of an Order in Part, 75 FR 53661, 53662 (September 1, 2010), and accompanying Issues and Decision Memorandum at Comment 1. As complete publicly ranged sales data were available, Commerce based the all-others rate on the publicly ranged sales data of the mandatory respondents. For a complete analysis of the data, see the Non-Reviewed Respondents Calculation Memorandum.

Exporter | Weighted-average dumping margin (percent)
Dingsheng Aluminium Industries (Hong Kong) Trading Co., Limited (Dingsheng Aluminium Industries (Hong Kong) Trading Co., Ltd.)/Hangzhou Dingsheng Import & Export Co., Ltd. (Hangzhou Dingsheng Import and Export Co., Ltd.)/Hangzhou Five Star Aluminium Co., Ltd./Hangzhou Teemful Aluminium Co., Ltd./Inner Mongolia Liansheng New Energy Material Co./Inner Mongolia Xinxing New Energy Material Co., Ltd | 60.61
Jiangsu Zhongji Lamination Materials Co., (HK) Limited/Jiangsu Zhongji Lamination Materials Stock Co., Ltd./Jiangsu Huafeng Aluminium Industry Co., Ltd./Jiangsu Zhongji Lamination Materials Co., Ltd | 75.65
Dong-IL Aluminium Co., Ltd | 63.25
Dongwon Systems Corp | 63.25
Eastern Valley Co., Ltd | 63.25
Granges Aluminum (Shanghai) Co., Ltd | 63.25
Lotte Aluminium Co., Ltd | 63.25
Shanghai Shenyan Packaging Materials Co., Ltd | 63.25
Suzhou Manakin Aluminum Processing Technology Co., Ltd | 63.25
Suzhou Manakin Trading Co., Ltd | 63.25

Disclosure

Pursuant to 19 CFR 351.224(b), we intend to disclose to parties in this proceeding the calculations performed for these final results within five days of the publication of this notice in the Federal Register.

Assessment Rates

Commerce has determined, and U.S. Customs and Border Protection (CBP) shall assess, antidumping duties on all appropriate entries in this review, in accordance with section 751(a)(2)(C) of the Act and 19 CFR 351.212(b). We intend to issue assessment instructions to CBP no earlier than 35 days after the date of publication of these final results in the Federal Register. If a timely summons is filed at the U.S. Court of International Trade, the assessment instructions will direct CBP not to liquidate relevant entries until the time for parties to file a request for a statutory injunction has expired (i.e., within 90 days of publication).

Where Dingsheng and Zhongji reported reliable entered values, we calculated importer- (or customer-) specific ad valorem rates by aggregating the dumping margins calculated for all U.S. sales to each importer (or customer) and dividing this amount by the total entered value of the sales to each importer (or customer).¹⁸ Where Commerce calculated a weighted-average dumping margin by dividing the total amount of dumping for reviewed sales to that party by the total sales quantity associated with those transactions, Commerce will direct CBP to assess importer- (or customer-) specific assessment rates based on the resulting per-unit rates.¹⁹ Where an importer- (or customer-) specific ad valorem or per-unit rate is greater than de minimis (i.e., 0.50 percent), Commerce will instruct CBP to collect the appropriate duties at the time of liquidation.²⁰ Where an importer- (or customer-) specific ad valorem or per-unit rate is zero or de minimis, Commerce will instruct CBP to liquidate appropriate entries without regard to antidumping duties.²¹

¹⁸ See 19 CFR 351.212(b)(1).

¹⁹ Id.

²⁰ Id.

²¹ See 19 CFR 351.106(c)(2).

Cash Deposit Requirements

The following cash deposit requirements will be effective upon publication of the final results of this review for shipments of the subject merchandise from China entered, or withdrawn from warehouse, for consumption on or after the publication date, as provided by section 751(a)(2)(C) of the Act: (1) for subject merchandise exported by the companies listed above that have separate rates, the cash deposit rate will be the rate established in these final results of review for each exporter as listed above; (2) for previously investigated or reviewed Chinese and non-Chinese exporters not listed above that received a separate rate in a prior segment of this proceeding, the cash deposit rate will continue to be the existing exporter-specific rate; (3) for all Chinese exporters of subject merchandise that have not been found to be entitled to a separate rate, the cash deposit rate will be that for the China-wide entity; and (4) for all non-Chinese exporters of subject merchandise which have not received their own rate, the cash deposit rate will be the rate applicable to the Chinese exporter that supplied that non-Chinese exporter. These cash deposit requirements, when imposed, shall remain in effect until further notice.

Notification to Importers

This notice serves as a final reminder to importers of their responsibility under 19 CFR 351.402(f)(2) to file a certificate regarding the reimbursement of antidumping and/or countervailing duties prior to liquidation of the relevant entries during this review period. Failure to comply with this requirement could result in Commerce's presumption that reimbursement of antidumping and/or countervailing duties occurred and the subsequent assessment of double antidumping duties, and/or an increase in the amount of antidumping duties by the amount of the countervailing duties.

Administrative Protective Order (APO)

This notice also serves as a reminder to parties subject to an APO of their responsibility concerning the return or destruction of proprietary information disclosed under APO in accordance with 19 CFR 351.305, which continues to govern business proprietary information in this segment of the proceeding. Timely written notification of the return or destruction of APO materials, or conversion to judicial protective order, is hereby requested. Failure to comply with the regulations and terms of an APO is a violation which is subject to sanction.

Notification to Interested Parties

These final results of review are issued and published in accordance with sections 751(a) and 777(i)(1) of the Act, and 19 CFR 351.221(b)(5).

Dated: November 5, 2024.
Abdelali Elouaradia,
Deputy Assistant Secretary for Enforcement and Compliance.

Appendix I

List of Topics Discussed in the Issues and Decision Memorandum

I. Summary

II. Background

III. Scope of the Order

IV. Changes to the Preliminary Results

V. Discussion of the Issues

Comment 1: Selection of Surrogate Country

Comment 2: Surrogate Value (SV) for Dingsheng's Self-Produced Recycled Scrap Input and its By-Product Recycled Aluminum

Comment 3: Calculation of Zhongji's Factors of Production (FOPs)

Comment 4: Zhongji's Freight and Movement Distance

Comment 5: Dingsheng's Freight Costs and Processing Costs in Thailand

Comment 6: SV for Electricity

Comment 7: Deduct Additional Expenses Reported for Certain U.S. Sales

Comment 8: Export-Contingent Countervailing Duty (CVD) Offset

Comment 9: Double Remedies Adjustment

Comment 10: Separate Rate for Lotte

Comment 11: Separate Rate for SK Global America, Inc. (SK Global)

VI. Recommendation

Appendix II

Companies Determined To Be Part of the China-Wide Entity

1. Alcha International Holdings Limited

2. Aluminum Corporation of China Limited

3. Dingheng New Materials Co., Ltd.

4. Henan Mingtai Al. Industrial

5. Hunan Suntown Marketing Limited

6. Jiangsu Dingsheng New Materials Joint-Stock Co., Ltd.

7. SAM-A Aluminum Co., Ltd.

8. Shandong Nanshan Aluminum Co., Ltd.

9. Shanghai Huafon Aluminium Corporation

10. Shanghai Shenhuo Aluminium Foil Co., Ltd

11. Shanghai Sunho Aluminum Foil Co., Ltd.

12. Suntown Technology Group Corporation Limited (Suntown Technology Group Co., Ltd.)

13. Walson (HK) Trading Co., Limited

14. Yinbang Clad Materials Co., Ltd.

15. Zhejiang Yongjie Aluminum Co., Ltd.

[FR Doc. 2024-26167 Filed 11-8-24; 8:45 am]

BILLING CODE 3510-DS-P